DEPARTMENT OF ENERGY

Federal Energy Regulatory Commission

[Docket No. EL01-38-000, et al.]

UGI Utilities, Inc., et al.; Electric Rate and Corporate Regulation Filings

February 16, 2001.

Take notice that the following filings have been made with the Commission:

1. UGI Utilities, Inc.; Metropolitan Edison Company; Pennsylvania Electric Company; PECO Energy Company; and PPL Electric Utilities Corporation, Complainants, v. PJM Interconnection, L.L.C. and Utility.com, Inc., Respondents

[Docket No. EL01-38-000]

Take notice that on February 15, 2001, UGI Utilities, Inc., Metropolitan Edison Company, Pennsylvania Electric Company, PECO Energy Company, and PPL Electric Utilities Corporation, tendered for filing a complaint with the Federal Energy Regulatory Commission requesting an order finding violations by PJM Interconnection, L.L.C., and Utility.com, Inc., of their obligations under PJM's tariffs and other governing agreements and ordering appropriate relief. The Complainants request the Commission to act on the complaint on a fast track basis in accordance with the provisions of 18 CFR 385.206(h).

Comment date: March 8, 2001, in accordance with Standard Paragraph E at the end of this notice. Answers to the complaint shall also be filed on or before March 8, 2001.

2. Allegheny Energy Service Corporation, on behalf of Monongahela Power Company, The Potomac Edison Company, and West Penn Power Company (Allegheny Power)

[Docket No. ER01-1217-000]

Take notice that on February 12, 2001, Allegheny Energy Service Corporation on behalf of Monongahela Power Company, The Potomac Edison Company, and West Penn Power Company (Allegheny Power), filed two Interconnection Agreements (Agreements) with Dominion Equipment, Inc. as Service Agreement Nos. 339 and 340 under Allegheny Power's Open Access Transmission Tariff.

The proposed effective dates under the Agreements are no later than October 17, 2001 for Service Agreement No. 339 and no later than March 1, 2002 for Service Agreement No. 340, or a date ordered by the Commission.

Copies of the filing have been provided to the Public Utilities Commission of Ohio, the Pennsylvania Public Utility Commission, the Maryland Public Service Commission, the Virginia State Corporation Commission, and the West Virginia Public Service Commission.

Comment date: March 5, 2001, in accordance with Standard Paragraph E at the end of this notice.

3. Western Systems Power Pool

[Docket No. ER91-195-042]

Take notice that on May 1, 2000, Western Systems Power Pool (WSPP), tendered for filing certain information as required by Ordering Paragraph (D) of the Commission's June 27, 1991 Order (55 FERC ¶ 61,495) and Ordering Paragraph (C) of the Commission's June 1, 1992 Order on Rehearing Denying Request Not to Submit Information, and Granting and Denying In Part Privileged Treatment. Pursuant to 18 CFR 385.211 (1999), WSPP has requested privileged treatment for some of the information filed consistent with the June 1, 1992 order.

Copies of WSPP's informational filing are on file with the Commission, and the non-privileged portions are available for public inspection.

Comment date: February 26, 2001, in accordance with Standard Paragraph E at the end of this notice.

4. Western Systems Power Pool

[Docket Nos. ER91-195-043; ER91-195-044; and ER91-195-045]

Take notice that on January 30, 2001, the Western Systems Power Pool (WSPP), tendered for filing certain information as required by Ordering Paragraph (D) of the Commission's June 27, 1991 Order (55 FERC ¶ 61,495) and Ordering Paragraph (C) of the Commission's and Granting In Part and Denying in Part Privileged Treatment. Pursuant to 18 CFR 385.211(1999), WSPP has requested privileged treatment for some of the information filed consistent with the June 1, 1992 order.

Copies of the WSPP's informational filing are on file with the Commission, and the non-privileged portions are available for public inspection.

Comment date: February 26, 2001, in accordance with Standard Paragraph E at the end of this notice.

5. MidAmerican Energy Company

[Docket No. ES01-20-000]

Take notice that on February 8, 2001, MidAmerican Energy Company submitted an application pursuant to section 204 of the Federal Power Act seeking authorization to issue promissory notes and other evidences of short-term indebtedness, from time to time, in an aggregate principal amount of up to $500 million outstanding at any one time, on or before April 15, 2003.

Comment date: March 9, 2001, in accordance with Standard Paragraph E at the end of this notice.

6. Arizona Public Service Company

[Docket No. ER01-463-002]

Take notice that on February 13, 2001, Arizona Public Service Company (APS), tendered for filing its Compliance to FERC Order ER01-463-000.

A copy of this filing has been served on all parties on the official service list.

Comment date: March 6, 2001, in accordance with Standard Paragraph E at the end of this notice.

7. ISO New England, Inc.

[Docket No. ER00-395-005]

Take notice January 30, 2001, ISO New England, Inc., (ISO), tendered for filing Index of Customers for 4th Quarter of 2000.

Comment date: February 26, 2001, in accordance with Standard Paragraph E at the end of this notice.

8. Carolina Power & Light Company

[Docket No. ER01-893-001]

Take notice that on February 13, 2001, Carolina Power & Light Company (CP&L), tendered for filing an amendment to the filing in this Docket as Ordered by The Commission.

Copies of the filing were served upon the North Carolina Utilities Commission and the South Carolina Public Service Commission.

Comment date: March 6, 2001, in accordance with Standard Paragraph E at the end of this notice.

9. Illinois Power Company

[Docket No. ER01-1224-000]

Take notice that on February 13, 2001, Illinois Power Company (Illinois Power), 500 South 27th Street, Decatur, Illinois 65251-2200, tendered for filing with the Commission a Service Agreement for Network Integration Transmission Service and Operating Agreement entered into by Illinois Power and Illinois Power, as retail merchant, pursuant to Illinois Power's Open Access Transmission Tariff.

Illinois Power requests an effective date of February 1, 2001 for the Agreements and accordingly seeks a waiver of the Commission's notice requirement.

Comment date: March 6, 2001, in accordance with Standard Paragraph E at the end of this notice.

10. Xcel Energy Services, Inc.

[Docket No. ER01-1225-000]

Take notice that on February 13, 2001, Xcel Energy Services Inc. (XES), on behalf of Public Service Company of Colorado (Public Service), tendered for filing an executed umbrella service agreement between Public Service and Northern States Power Company under Public Service's Rate Schedule for the Sale, Assignment, or Transfer of Transmission Rights.

Comment date: March 6, 2001, in accordance with Standard Paragraph E at the end of this notice.

11. Entergy Services, Inc.

[Docket No. ER01-1226-000]

Take notice that on February 13, 2001, Entergy Services, Inc., on behalf of Entergy Arkansas, Inc., Entergy Gulf States, Inc., Entergy Louisiana, Inc., Entergy Mississippi, Inc., and Entergy New Orleans, Inc., (collectively, the Entergy Operating Companies), tendered for filing a Non-Firm Point-To-Point Transmission Service Agreement and a Short-Term Firm Point-To-Point Transmission Service Agreement both between Entergy Services, Inc., as agent for the Entergy Operating Companies, and Ameren Energy Marketing Company.

Comment date: March 6, 2001, in accordance with Standard Paragraph E at the end of this notice.

12. Puget Sound Energy, Inc.

[Docket No. ER01-1227-000]

Take notice that on February 13, 2001, Puget Sound Energy, Inc., as Transmission Provider, tendered for filing a Service Agreement for Long-Term Firm Point-To-Point Transmission Service with Idaho Power Company (Idaho Power), as Transmission Customer.

A copy of the filing was served upon Idaho Power.

Comment date: March 6, 2001, in accordance with Standard Paragraph E at the end of this notice.

13. Avista Corporation

[Docket No. ER01-1228-000]

Take notice that on February 13, 2001, Avista Corporation (Avista), tendered for filing notice that the Mutual Netting Agreement assigned Rate Schedule FERC No. 251, previously filed with the Federal Energy Regulatory Commission by Avista Corporation, formerly known as The Washington Water Power Company, under the Commission's Docket No. ER98-4413-000 with Illinova Energy Partners, Inc. is to be terminated, effective February 16, 2001 by the request of Illinova Energy Partners, Inc., pursuant to its letter dated February 5, 2001.

Notice of the cancellation has been served upon Illinova Energy Partners, Inc.

Comment date: March 6, 2001, in accordance with Standard Paragraph E at the end of this notice.

14. Pacific Gas and Electric Company

[Docket No. ER01-1230-000]

Take notice that on February 13, 2001, Pacific Gas and Electric Company (PG&E), tendered for filing a Generator Special Facilities Agreement (GSFA) between PG&E and Duke Energy Moss Landing, LLC (Duke) providing for Special Facilities and the parallel operation of Duke's generating facility and the PG&E-owned electric system. This GSFA permits PG&E to recover the ongoing costs associated with owning, operating and maintaining the Special Facilities including the cost of any alterations and additions. As detailed in the GSFA, PG&E proposes to charge Duke a monthly Cost of Ownership Charge equal to the rate for transmission-level, customer-financed facilities in PG&E's currently effective Electric Rule 2, as filed with the California Public Utilities Commission (CPUC). PG&E's currently effective rate of 0.31% for transmission-level, customer-financed Special Facilities is contained in the CPUC's Advice Letter 1960-G/1587-E, effective August 5, 1996, a copy of which is included in this filing. PG&E has requested certain waivers.

Copies of this filing have been served upon Duke, the California Independent System Operator Corporation, and the CPUC.

Comment date: March 6, 2001, in accordance with Standard Paragraph E at the end of this notice.

15. Southwest Power Pool, Inc.

[Docket No. ER01-1231-000]

Take notice that on February 13, 2001, Southwest Power Pool, Inc. (SPP), tendered for filing an unexecuted service agreement for Network Integration Transmission Service and an unexecuted Network Operating Agreement with Southwestern Public Service Company—Bulk Power Sales (Network Customer).

SPP seeks an effective date of January 14, 2001 for these service agreements.

A copy of this filing was served on the Network Customer.

Comment date: March 6, 2001, in accordance with Standard Paragraph E at the end of this notice.

16. PJM Interconnection, L.L.C., Allegheny Power Service Corporation

[Docket No. ER01-1232-000]

Take notice that on February 13, 2001, Allegheny Power Service Corporation, as agent for the Allegheny Power system operating companies (Monongahela Power Company, The Potomac Edison Company, and West Penn Power Company, all doing business as Allegheny Power (hereinafter referred to collectively as Allegheny)), and PJM Interconnection, L.L.C. (PJM), jointly tendered for filing an executed Interim Coordination Agreement (ICA) between Allegheny and PJM, dated as of February 12, 2001.

Allegheny and PJM state that they announced late last year their intent to form PJM West, under which Allegheny would be integrated into the PJM tariff and the energy market and other regional markets operated by PJM.

Allegheny and PJM state that they expect that the definitive agreements to implement PJM West, will be filed with the Commission shortly after March 1, 2001, with a requested effective date on or about December 15, 2001 in compliance with Commission Order No. 2000. Allegheny and PJM state that the ICA is needed to properly handle the interim period before Allegheny's expected integration into PJM's open access transmission tariff on or about December 15, 2001. Under the ICA, Allegheny and PJM will coordinate their procedures for responding to both generator interconnection requests and transmission service requests.

PJM and Allegheny propose an effective date of February 14, 2001 for the Interim Coordination Agreement and accordingly request waiver of 18 CFR 35.3(a).

Comment date: March 6, 2001, in accordance with Standard Paragraph E at the end of this notice.

17. Florida Power & Light Company

[Docket No. ER01-1233-000]

Take notice that on February 13, 2001, Florida Power & Light Company (FPL), tendered for filing amendments to its Open Access Transmission Tariff to implement procedures for scheduling secondary service by network customers.

Comment date: March 6, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-4572 Filed 2-23-01; 8:45 am]

BILLING CODE 6717-01-P